DEPARTMENT OF AGRICULTURE

Submission for OMB Review; Comment Request

May 8, 2012.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Health Certificate for the Export of Live Crustaceans, Finfish, Mollusks, and Related Products.

OMB Control Number: 0579-0278.

Summary Of Collection: The Animal Health Protection Act (AHPA) of 2002 is the primary Federal law governing the protection of animal health. The law gives the Secretary of Agriculture broad authority to detect, control, or eradicate pests or diseases of livestock or poultry. The AHPA is contained in Title X, Subtitle E, Sections 10401-18 of Public Law 107-171, May 13, 2002, the Farm Security and Rural Investment Act of 2002. The Animal and Plant Health Inspection Service (APHIS) maintains information regarding the import health requirements of other countries for animals and animal products exported from the United States.

Need and Use of the Information: APHIS requires U.S. exporters to complete an export health certificate before exporting any live crustaceans and their gametes, live finfish, and their gametes, or live mollucks and their gametes, if requested by the importing country. The certificate will be completed by an accredited veterinarian with assistance from the producer, and must be signed by the accredited veterinarian and endorsed by APHIS as the competent Federal authority who certifies the health status of the shipment being exported. The health certificate identifies the names of the species being exported from the U.S., their age and weights, and whether they are cultured stock or wild stock; their place of origin, their country of destination and the date and method of transport. If this information were not collected, or collected less frequently, export trade would decrease. These certificates allow APHIS to address the increasing health attestations of importing countries with minimal burden to the public.

Description of Respondents: Business or other for-profit.

Number of Respondents: 69.

Frequency of Responses: Reporting: On occasion.

Total Burden Hours: 1,020.

Ruth Brown,
Departmental Information Collection Clearance Officer.

[FR Doc. 2012-11480 Filed 5-11-12; 8:45 am]

BILLING CODE 3410-34-P